DEPARTMENT OF ENERGY

Federal Energy Regulatory Commission

[Project No. 2544-052]

Hydro Technology, Inc.; Notice of Application Accepted for Filing, Ready For Environmental Analysis and Soliciting Comments, Recommendations, Terms and Conditions, And Prescriptions

Take notice that the following license application has been filed with the Commission and is available for public inspection.

a. Type of Application: Subsequent License.

b. Project No.: P-2544-052.

c. Date filed: December 27, 2021.

d. Applicant: Hydro Technology, Inc.

e. Name of Project: Meyers Falls Hydroelectric Project (Project).

f. Location: The existing project is located on the Colville River near the city of Kettle Falls, Stevens County, Washington. The project does not affect federal lands.

g. Filed Pursuant to: Federal Power Act 16 U.S.C. 791(a)-825(r).

h. Applicant Contact: Benjamin Hendrickson, President, Hydro Technology Systems, Inc., 897 Greenwood Loop Rd., PO Box 245, Kettle Falls, WA 99141; Telephone (509) 933-7629.

i. FERC Contact: Maryam Zavareh, (202) 502-8474, maryam.zavareh@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERC.aspx. Commenters can submit brief comments up to 6,000 characters, without prior registration, using the eComment system at https://ferconline.ferc.gov/Quick.aspx. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2544-052.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Meyers Falls Project consists of: (1) a 10-acre reservoir; (2) a 24.5-foot-high, 306-foot-long, concrete and earth-fill embankment dam; (3) a 100-foot-long concrete spillway section containing five 20 feet, 3.5 inch wide, 6 feet high bulkheads; (3) a 46-foot-wide, 20-foot-deep, 360-foot-long intake channel with a 19-foot-wide and 11-foot-deep trashrack at the entrance point; (4) a 4-foot-diameter, 323-foot-long steel penstock conveying flow from intake to powerhouse; (5) a 31.5-foot-wide, 55.5-foot-long, 15.5-foot-high steel reinforced concrete powerhouse containing two generating units with a total installed capacity of 1.2 megawatts; (7) a 4,600-foot-long, 13.8-kilovolt transmission line; and (8) appurtenant facilities. The Meyers Falls Project is operated in a run-of-river mode with an average annual generation of 7,883 megawatt-hours per year.

m. A copy of the application can be viewed on the Commission's website at http://www.ferc.gov using the “eLibrary” link. Enter the docket number excluding the last three digits in the docket number field to access the document. For assistance, contact FERC Online Support.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

n. The applicant must file no later than 60 days following the date of issuance of this notice either: (1) evidence of the date on which the certifying agency received the certification request; (2) a copy of the water quality certification; or (3) evidence of waiver of water quality certification. Please note that the certification request must comply with 40 CFR 121.5(b), including documentation that a pre-filing meeting request was submitted to the certifying authority at least 30 days prior to submitting the certification request. Please also note that the certification request must be sent to the certifying authority and to the Commission concurrently

o. Procedural schedule: The application will be processed according to the following schedule. Revisions to the schedule will be made as appropriate.

Deadline for Filing Comments, Recommendations, and Agency Terms and Conditions/Prescriptions: May 2023

Licensee's Reply to REA Comments: July 2023

p. Final amendments to the application must be filed with the Commission no later than 30 days from the issuance date of this notice.

Dated: March 28, 2023.
Kimberly D. Bose,
Secretary.

[FR Doc. 2023-06857 Filed 4-3-23; 8:45 am]

BILLING CODE 6717-01-P